OFFICE OF PERSONNEL MANAGEMENT

Submission for Review: Letter Reply To Request for Information (RI 20-64); Former Spouse Survivor Annuity Election (RI 20-64A); Information on Electing a Survivor Annuity for Your Former Spouse (RI 20-64B)

AGENCY: Office of Personnel Management.

ACTION: Notice.

SUMMARY: The Retirement Services, Office of Personnel Management (OPM) offers the general public and other federal agencies the opportunity to comment on an extension, without change, of a currently approved information collection request (ICR), Letter Reply to Request for Information and Information on Electing a Survivor Annuity for Your Former Spouse.

DATES: Comments are encouraged and will be accepted until April 12, 2017.

ADDRESSES: Interested persons are invited to submit written comments on the proposed information collection to the Office of Information and Regulatory Affairs, Office of Management and Budget, 725 17th Street NW., Washington, DC 20503, Attention: Desk Officer for the Office of Personnel Management or sent via electronic mail to oira_submission@omb.eop.gov or faxed to (202) 395-6974.

FOR FURTHER INFORMATION CONTACT:

A copy of this ICR, with applicable supporting documentation, may be obtained by contacting the Office of Information and Regulatory Affairs, Office of Management and Budget, 725 17th Street NW., Washington, DC 20503, Attention: Desk Officer for the Office of Personnel Management or sent via electronic mail to oira_submission@omb.eop.gov or faxed to (202) 395-6974.

SUPPLEMENTARY INFORMATION: As required by the Paperwork Reduction Act of 1995, (Pub. L. 104-13, 44 U.S.C. chapter 35) as amended by the Clinger-Cohen Act (Pub. L. 104-106), OPM is soliciting comments for this collection. The information collection (OMB No. 3206-0235) was previously published in the Federal Register on September 21, 2016 at 81 FR 64957 allowing for a 60-day public comment period. No comments were received for this information collection.

The purpose of this notice is to allow an additional 30 days for public comments.

The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Form RI 20-64, Letter Reply to Request for Information, is used by the Civil Service Retirement System (CSRS) to provide information about the amount of annuity payable after a survivor reduction, to explain the annuity reductions required to pay for the survivor benefit, and to give the beginning rate of survivor annuity. Form RI 20-64A, Former Spouse Survivor Annuity Election, is used by the CSRS to obtain a survivor benefit election from annuitants who are eligible to elect to provide survivor benefits for a former spouse. Form RI 20-64B, Information on Electing a Survivor Annuity for Your Former Spouse, is a pamphlet that provides important information to retirees under the CSRS who want to provide a survivor annuity for a former spouse.

Analysis

Agency: Retirement Operations, Retirement Services, Office of Personnel Management.

Title: Letter Reply to Request for Information; Former Spouse Survivor Annuity Election.

OMB Number: 3206-0235.

Frequency: On occasion.

Affected Public: Individual or Households.

Number of Respondents: 38.

Estimated Time per Respondent: 45 minutes for RI 20-64A and 8 minutes for RI 20-64.

Total Burden Hours: 24 hours.

U.S. Office of Personnel Management.
Kathleen McGettigan,
Acting Director.

[FR Doc. 2017-04896 Filed 3-10-17; 8:45 am]

BILLING CODE 6325-38-P